DEPARTMENT OF HOMELAND SECURITY

Federal Emergency Management Agency

44 CFR Part 64

[Docket ID FEMA-2010-0003; Internal Agency Docket No. FEMA-8133]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region I
Connecticut:
Bethel, Town of, Fairfield County | 090001 | July 25, 1975, Emerg; February 15, 1984, Reg; June 18, 2010, Susp | June 18, 2010 | June 18, 2010.
Bridgeport, City of, Fairfield County | 090002 | August 7, 1973, Emerg; October 15, 1980, Reg; June 18, 2010, Susp | *......do | Do.
Danbury, City of, Fairfield County | 090004 | November 19, 1971, Emerg; May 2, 1977, Reg; June 18, 2010, Susp | ......do | Do.
Darien, Town of, Fairfield County | 090005 | January 19, 1973, Emerg; January 2, 1981, Reg; June 18, 2010, Susp | ......do | Do.
Greenwich, Town of, Fairfield County | 090008 | February 4, 1972, Emerg; September 30, 1977, Reg; June 18, 2010, Susp | ......do | Do.
Monroe, Town of, Fairfield County | 090009 | April 24, 1975, Emerg; April 17, 1985, Reg; June 18, 2010, Susp | ......do | Do.
New Fairfield, Town of, Fairfield County | 090188 | November 17, 1975, Emerg; February 15, 1984, Reg; June 18, 2010, Susp | ......do | Do.
Newtown, Town of, Fairfield County | 090011 | August 28, 1975, Emerg; June 15, 1979, Reg; June 18, 2010, Susp | ......do | Do.
Norwalk, City of, Fairfield County | 090012 | March 10, 1972, Emerg; April 3, 1978, Reg; June 18, 2010, Susp | ......do | Do.
Redding, Town of, Fairfield County | 090141 | September 23, 1974, Emerg; June 15, 1982, Reg; June 18, 2010, Susp | ......do | Do.
Shelton, City of, Fairfield County | 090014 | August 31, 1973, Emerg; September 29, 1978, Reg; June 18, 2010, Susp | ......do | Do.
Stamford, City of, Fairfield County | 090015 | March 10, 1972, Emerg; January 16, 1981, Reg; June 18, 2010, Susp | ......do | Do.
Stratford, Town of, Fairfield County | 090016 | August 18, 1972, Emerg; June 1, 1978, Reg; June 18, 2010, Susp | ......do | Do.
Trumbull, Town of, Fairfield County | 090017 | January 15, 1974, Emerg; December 4, 1979, Reg; June 18, 2010, Susp | ......do | Do.
Weston, Town of, Fairfield County | 090018 | September 8, 1972, Emerg; October 17, 1978, Reg; June 18, 2010, Susp | ......do | Do.
Region III
Virginia: Nelson County, Unincorporated Areas | 510102 | October 4, 1973, Emerg; August 1, 1978, Reg; June 18, 2010, Susp | ......do | Do.
West Virginia:
Grantsville, Town of, Calhoun County | 540021 | April 29, 1975, Emerg; March 18, 1991, Reg; June 18, 2010, Susp | ......do | Do.
Calhoun County, Unincorporated Areas | 540020 | July 8, 1975, Emerg; March 18, 1991, Reg; June 18, 2010, Susp | ......do | Do.
Region IV
Georgia:
Cumming, City of, Forsyth County | 130236 | July 23, 1975, Emerg; August 1, 1986, Reg; June 18, 2010, Susp | ......do | Do.
Duluth, City of, Gwinnett County | 130098 | December 17, 1975, Emerg; June 1, 1981, Reg; June 18, 2010, Susp | ......do | Do.
Forsyth County, Unincorporated Areas | 130312 | April 12, 1977, Emerg; July 4, 1989, Reg; June 18, 2010, Susp | ......do | Do.
Gibson, City of, Glascock County | 130091 | May 7, 1976, Emerg; July 17, 1986, Reg; June 18, 2010, Susp | ......do | Do.
Gwinnett County, Unincorporated Areas | 130322 | April 9, 1975, Emerg; June 15, 1981, Reg; June 18, 2010, Susp | ......do | Do.
Jasper County, Unincorporated Areas | 130519 | January 24, 1995, Emerg; May 6, 1996, Reg; June 18, 2010, Susp | ......do | Do.
Johns Creek, City of, Fulton County | 130678 | N/A, Emerg; August 18, 2009, Reg; June 18, 2010, Susp | ......do | Do.
Monticello, City of, Jasper County | 130510 | October 3, 1994, Emerg; June 18, 2010, Reg; June 18, 2010, Susp | ......do | Do.
Mississippi:
Blue Mountain, Town of, Tippah County | 280172 | April 29, 1975, Emerg; July 3, 1986, Reg; June 18, 2010, Susp | ......do | Do.
Magnolia, City of, Pike County | 280297 | December 21, 1978, Emerg; July 1, 1987, Reg; June 18, 2010, Susp | ......do | Do.
McComb, City of, Pike County | 280132 | July 18, 1975, Emerg; August 1, 1979, Reg; June 18, 2010, Susp | ......do | Do.
Pike County, Unincorporated Areas | 280278 | May 13, 1980, Emerg; September 15, 1989, Reg; June 18, 2010, Susp | ......do | Do.
Ripley, City of, Tippah County | 280173 | August 6, 1975, Emerg; June 4, 1987, Reg; June 18, 2010, Susp | ......do | Do.
Tippah County, Unincorporated Areas | 280282 | October 31, 2008, Emerg; June 18, 2010, Reg; June 18, 2010, Susp | ......do | Do.
Walnut, Town of, Tippah County | 280328 | August 10, 2007, Emerg; November 1, 2007, Reg; June 18, 2010, Susp | ......do | Do.
Tennessee: Hancock County, Unincorporated Areas | 470226 | March 15, 1995, Emerg; September 1, 2002, Reg; June 18, 2010, Susp | ......do | Do.
Region V
Illinois:
Gladstone, Village of, Henderson County | 170279 | October 25, 1974, Emerg; March 9, 1984, Reg; June 18, 2010, Susp | ......do | Do.
Gulfport, Village of, Henderson County | 170280 | March 12, 1974, Emerg; October 15, 1985, Reg; June 18, 2010, Susp | ......do | Do.
Henderson County, Unincorporated Areas | 170277 | April 12, 1974, Emerg; March 4, 1986, Reg; June 18, 2010, Susp | ......do | Do.
Lomax, Village of, Henderson County | 170281 | July 24, 1974, Emerg; April 3, 1984, Reg; June 18, 2010, Susp | ......do | Do.
Oquawka, Village of, Henderson County | 170282 | April 30, 1974, Emerg; June 1, 1983, Reg; June 18, 2010, Susp | ......do | Do.
Ohio:
London, City of, Madison County | 390366 | January 15, 1976, Emerg; July 2, 1987, Reg; June 18, 2010, Susp | ......do | Do.
Madison County, Unincorporated Areas | 390773 | March 20, 1978, Emerg; February 6, 1991, Reg; June 18, 2010, Susp | ......do | Do.
West Jefferson, Village of, Madison County | 390638 | July 24, 1991, Emerg; June 18, 2010, Reg; June 18, 2010, Susp | ......do | Do.
Girard, City of, Trumbull County | 390536 | August 27, 1975, Emerg; July 2, 1980, Reg; June 18, 2010, Susp | ......do | Do.
Hubbard, City of, Trumbull County | 390537 | June 9, 1975, Emerg; August 15, 1978, Reg; June 18, 2010, Susp | ......do | Do.
McDonald, Village of, Trumbull County | 390538 | July 7, 1975, Emerg; August 8, 1979, Reg; June 18, 2010, Susp | ......do | Do.
Newton Falls, City of, Trumbull County | 390539 | March 23, 1973, Emerg; August 1, 1978, Reg; June 18, 2010, Susp | ......do | Do.
Niles, City of, Trumbull County | 390540 | March 5, 1974, Emerg; June 1, 1978, Reg; June 18, 2010, Susp | ......do | Do.
Orangeville, Village of, Trumbull County | 390751 | May 28, 1976, Emerg; September 4, 1987, Reg; June 18, 2010, Susp | ......do | Do.
Trumbull County, Unincorporated Areas | 390535 | March 16, 1973, Emerg; September 29, 1978, Reg; June 18, 2010, Susp | ......do | Do.
Warren, City of, Trumbull County | 390541 | September 29, 1972, Emerg; August 1, 1977, Reg; June 18, 2010, Susp | ......do | Do.
Region VI
Arkansas:
Blytheville, City of, Mississippi County | 050140 | August 16, 1974, Emerg; September 21, 1982, Reg; June 18, 2010, Susp | ......do | Do.
Dyess, City of, Mississippi County | 050143 | September 10, 1975, Emerg; January 17, 1986, Reg; June 18, 2010, Susp | ......do | Do.
Joiner, City of, Mississippi County | 050145 | September 8, 1975, Emerg; September 21, 1982, Reg; June 18, 2010, Susp | ......do | Do.
Keiser, City of, Mississippi County | 050146 | April 3, 1975, Emerg; September 21, 1982, Reg; June 18, 2010, Susp | ......do | Do.
Leachville, City of, Mississippi County | 050147 | April 11, 1975, Emerg; June 25, 1976, Reg; June 18, 2010, Susp | ......do | Do.
Luxora, City of, Mississippi County | 050148 | June 23, 1975, Emerg; February 1, 1987, Reg; June 18, 2010, Susp | ......do | Do.
Manila, City of, Mississippi County | 050149 | June 13, 1975, Emerg; July 20, 1982, Reg; June 18, 2010, Susp | ......do | Do.
Marie, Town of, Mississippi County | 050150 | July 15, 1975, Emerg; March 22, 1982, Reg; June 18, 2010, Susp | ......do | Do.
Osceola, City of, Mississippi County | 050151 | June 5, 1974, Emerg; June 30, 1976, Reg; June 18, 2010, Susp | ......do | Do.
Mississippi County, Unincorporated Areas | 050452 | July 6, 1979, Emerg; November 1, 1985, Reg; June 18, 2010, Susp | ......do | Do.
Wilson, City of, Mississippi County | 050153 | April 24, 1975, Emerg; June 25, 1976, Reg; June 18, 2010, Susp | ......do | Do.
Oklahoma:
Elmore City, City of, Garvin County | 400374 | December 19, 1977, Emerg; July 20, 1982, Reg; June 18, 2010, Susp | ......do | Do.
Lindsay, City of, Garvin County | 400245 | February 26, 1975, Emerg; January 6, 1983, Reg; June 18, 2010, Susp | ......do | Do.
Maysville, Town of, Garvin County | 400402 | February 27, 1978, Emerg; September 30, 1981, Reg; June 18, 2010, Susp | ......do | Do.
Pauls Valley, City of, Garvin County | 400246 | December 9, 1976, Emerg; September 17, 1980, Reg; June 18, 2010, Susp | ......do | Do.
Stratford, Town of, Garvin County | 400416 | January 26, 1978, Emerg; November 15, 1985, Reg; June 18, 2010, Susp | ......do | Do.
Region VII
Nebraska:
Adams, Village of, Gage County | 310089 | November 7, 1975, Emerg; March 18, 1985, Reg; June 18, 2010, Susp | ......do | Do.
Gage County, Unincorporated Areas | 310088 | July 27, 1984, Emerg; May 1, 1990, Reg; June 18, 2010, Susp | ......do | Do.
Odell, Village of, Gage County | 310094 | August 26, 1975, Emerg; June 1, 1987, Reg; June 18, 2010, Susp | ......do | Do.
Region VIII
Wyoming:
Cody, City of, Park County | 560038 | April 9, 1975, Emerg; February 2, 1984, Reg; June 18, 2010, Susp | ......do | Do.
Meeteetse, Town of, Park County | 560039 | September 29, 1975, Emerg; October 1, 1986, Reg; June 18, 2010, Susp | ......do | Do.
Park County, Unincorporated Areas | 560085 | March 24, 1983, Emerg; August 1, 1987, Reg; June 18, 2010, Susp | ......do | Do.
Powell, City of, Park County | 560040 | July 23, 1975, Emerg; July 15, 1985, Reg; June 18, 2010, Susp | ......do | Do.
* do = Ditto.
Code for reading third column: Emerg.—Emergency; Reg.—Regular; Susp.—Suspension.

Dated: May 28, 2010.
Sandra K. Knight,
Deputy Federal Insurance and Mitigation Administrator, Mitigation.

[FR Doc. 2010-13715 Filed 6-7-10; 8:45 am]

BILLING CODE 9110-12-P